DEPARTMENT OF ENERGY

Federal Energy Regulatory Commission

Combined Notice of Filings #1

July 21, 2006.

Take notice that the Commission received the following electric corporate filings:

Docket Numbers: EC06-139-000.

Applicants: Duquesne Light Holdings, Inc.; DUET Investment Holdings Limited; Industry Funds Management Limited.

Description: Duquesne Light Holdings, Inc., et al., submits an application for approval under section 203 of the Federal Power Act and request for expedited consideration.

Filed Date: July 17, 2006.

Accession Number: 20060718-0158.

Comment Date: 5 p.m. Eastern Time on Monday, August 7, 2006.

Docket Numbers: EC06-140-000; EL06-86-000.

Applicants: Edison Electric Institute; Jurisdictional Signatories to the Spare Transformer Sharing Agreement.

Description: Jurisdictional Signatories submits a joint application for authorization for transfers of jurisdictional facilities and a petition for declaratory order, pursuant to section 203 of FPA and 207 of the Commission's rules of practice and procedure.

Filed Date: July 18, 2006.

Accession Number: 20060720-0114.

Comment Date: 5 p.m. Eastern Time on Tuesday, August 8, 2006.

Docket Numbers: EC06-141-000.

Applicants: Cadillac Renewable Energy LLC; Deville Energy, LLC.

Description: Application for authorization for disposition of jurisdictional facilities under section 203 of the Federal Power Act.

Filed Date: July 14, 2006.

Accession Number: 20060720-0015.

Comment Date: 5 p.m. Eastern Time on Friday, August 4, 2006.

Docket Numbers: EC06-142-000.

Applicants: Atlantic Power Holdings LLC; Trans-Elect NTD Path 15, LLC; AP Sub.

Description: Trans-Elect NTD Path 15, LLC et al submits an application requesting that the Commission grant authorization for the indirect disposition of jurisdictional facilities.

Filed Date: July 18, 2006.

Accession Number: 20060720-0063.

Comment Date: 5 p.m. Eastern Time on Tuesday, August 8, 2006.

Take notice that the Commission received the following electric rate filings:

Docket Numbers: ER99-2416-006.

Applicants: EL Paso Electric Company.

Description: El Paso Electric Co. submits a notice of change in status to inform FERC of four changes with regards to the characteristics relied upon in granting their market-based rate authority.

Filed Date: July 17, 2006.

Accession Number: 20060719-0150.

Comment Date: 5 p.m. Eastern Time on Monday, August 7, 2006.

Docket Numbers: ER05-1102-001.

Applicants: Goldendale Energy Center, LLC.

Description: Goldendale Energy Center, LLC submits a revised Reactive Supply and Voltage Control from Generation Sources Service Rate Schedule pursuant to the Commission May 19, 2006 Order.

Filed Date: July 17, 2006.

Accession Number: 20060718-0157.

Comment Date: 5 p.m. Eastern Time on Monday, August 7, 2006.

Docket Numbers: ER06-506-004.

Applicants: New York Independent System Operator, Inc.; New York Transmission Owners.

Description: New York Independent System Operator, Inc. and the New York Transmission Owners submits Second Revised Sheet 944C et al. to FERC Electric Tariff, Original Volume 1 in compliance with FERC's June 15, 2006 Order.

Filed Date: July 17, 2006.

Accession Number: 20060718-0159.

Comment Date: 5 p.m. Eastern Time on Monday, August 7, 2006.

Docket Numbers: ER06-744-002.

Applicants: Sabine Cogen, LP.

Description: Sabine Cogen, LP submits a notice of non-material change in status in compliance with the reporting requirements adopted by FERC in Order 652.

Filed Date: July 17, 2006.

Accession Number: 20060718-0156.

Comment Date: 5 p.m. Eastern Time on Monday, August 7, 2006.

Docket Numbers: ER06-847-001; ER05-1235-002.

Applicants: MidAmerican Energy Company.

Description: MidAmerican Energy Co. submits a compliance filing pursuant to FERC's directive in the June 15 Order.

Filed Date: July 17, 2006.

Accession Number: 20060719-0179.

Comment Date: 5 p.m. Eastern Time on Monday, August 7, 2006.

Docket Numbers: ER06-866-001.

Applicants: Midwest Independent Transmission System Operator, Inc.

Description: Midwest Independent Transmission System Operator Inc. submits a Large Generator Interconnection Agreement with Whistling Wind WI Energy Center, LLC et al.

Filed Date: July 13, 2006.

Accession Number: 20060720-0068.

Comment Date: 5 p.m. Eastern Time on Thursday, August 3, 2006.

Docket Numbers: ER06-1039-002.

Applicants: Freedom Partners, LLC.

Description: Freedom Partners, LLC dba Freedom Energy Partners submits a second amended application for order accepting market based rate tariff granting certain Waivers and Blanket Approvals.

Filed Date: July 17, 2006.

Accession Number: 20060718-0155.

Comment Date: 5 p.m. Eastern Time on Monday, August 7, 2006.

Docket Numbers: ER06-1202-001.

Applicants: MidAmerican Energy Company.

Description: MidAmerican Energy Co. submits a first amendment to its June 30, 2006 tariff filing Original Sheet 20 et al. to Original Service Agreement 261.

Filed Date: July 12, 2006.

Accession Number: 20060720-0066.

Comment Date: 5 p.m. Eastern Time on Wednesday, August 2, 2006.

Docket Numbers: ER06-1246-000.

Applicants: Duke Energy Shared Services, Inc.

Description: Duke Energy Shared Services, Inc. on behalf of Brownsville Power I, LLC et al. submits amended market based rate tariffs.

Filed Date: July 12, 2006.

Accession Number: 20060720-0065.

Comment Date: 5 p.m. Eastern Time on Wednesday, August 2, 2006.

Docket Numbers: ER06-1248-000.

Applicants: California Independent System Operator Corporation

Description: California Independent System Operator Corp. submits its petition for temporary waiver of sanctions under Sections 37.4.1.2 and 37.4.3.2 of the CAISO Tariff.

Filed Date: July 12, 2006.

Accession Number: 20060720-0067.

Comment Date: 5 p.m. Eastern Time on Wednesday, August 2, 2006.

Docket Numbers: ER06-1253-000.

Applicants: Midwest Independent Transmission System.

Description: Midwest Independent Transmission System Operator, Inc. submits proposed revisions to Section 40 of its OAT&EM Tariff, Third Revised Volume No. 1.

Filed Date: July 17, 2006.

Accession Number: 20060718-0154.

Comment Date: 5 p.m. Eastern Time on Monday, August 7, 2006.

Docket Numbers: ER06-1254-000.

Applicants: Midwest Independent Transmission System Operator, Inc.; Midwest ISO Transmission Owners.

Description: Midwest ISO Transmission Owners, et al., submit proposed revisions to Section 4.6.3 of the Agreement with Midwest ISO Balancing Authorities relating to implementation of TEMT, Rate Schedule No. 3.

Filed Date: July 17, 2006.

Accession Number: 20060718-0150.

Comment Date: 5 p.m. Eastern Time on Monday, August 7, 2006.

Docket Numbers: ER06-1255-000.

Applicants: PJM Interconnection, LLC.

Description: PJM Interconnection, LLC submits a notice of cancellation for its Interconnection Service Agreement with AC Landfill Energy, LLC and Atlantic City Electric Co.

Filed Date: July 17, 2006.

Accession Number: 20060718-0149.

Comment Date: 5 p.m. Eastern Time on Monday, August 7, 2006.

Docket Numbers: ER06-1256-000.

Applicants: GenWest, LLC.

Description: GenWest, LLC submits its notice of cancellation of FERC Electric Tariff, Original Volume 2, effective August 1, 2006.

Filed Date: July 17, 2006.

Accession Number: 20060718-0151.

Comment Date: 5 p.m. Eastern Time on Monday, August 7, 2006.

Docket Numbers: ER06-1257-000.

Applicants: Covanta Essex Company.

Description: Covanta Essex Co. submits First Revised Sheet 1 et al. to FERC Electric Tariff, Original Volume 2 pursuant to section 205 of the Federal Power Act.

Filed Date: July 17, 2006.

Accession Number: 20060718-0152.

Comment Date: 5 p.m. Eastern Time on Monday, August 7, 2006.

Docket Numbers: ER06-1258-000.

Applicants: Indiana Michigan Power Company.

Description: Indiana Michigan Power submits a Cost-Based Formula Rate Agreement for Full Requirements Electric Service dated June 13, 2006 with Wabash Valley Power Association, Rate Schedule 112.

Filed Date: July 18, 2006.

Accession Number: 20060719-0062.

Comment Date: 5 p.m. Eastern Time on Tuesday, August 8, 2006.

Docket Numbers: ER06-1259-000.

Applicants: Southern Company Services, Inc.

Description: Southern Company Services, Inc., as agent for Alabama Power et al., submits an unexecuted amendment to the Agreement for Network Integration Transmission Service for Alabama Municipal Electric Authority, under its OATT, Fourth Revised Volume No. 5.

Filed Date: July 17, 2006.

Accession Number: 20060721-0176.

Comment Date: 5 p.m. Eastern Time on Monday, August 7, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-12249 Filed 7-28-06; 8:45 am]

BILLING CODE 6717-01-P